DEPARTMENT OF THE TREASURY

Submission for OMB Review; Comment Request

October 11, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before November 16, 2006 to be assured of consideration.

Internal Revenue Service (IRS)

OMB Number: 1545-0938.

Type of Review: Extension.

Title: Interest Charge Domestic International Sales Corporation Return.

Forms: 1120 IC-DISC.

Description: U.S. Corporations that have elected to be an interest charge domestic international sales corporation (IC-DISC) file Form 1120 IC-DISC to report their income and deductions. The IC-DISC is not taxed, but IC-DISC shareholders are taxed on their share of IC-DISC income. IRS uses Form 1120-IC-DISC to check the IC-DISC's computation of income. Schedule K (Form 1120-IC-DISC) is used to report income to shareholders; Schedule P (Form 1120-IC-DISC) is used by the IC-DISC to report its dealing with related suppliers, etc.

Respondents: Businesses and for-profit institutions.

Estimated Total Burden Hours: 229,676 hours.

OMB Number: 1545-2018.

Type of Review: Extension.

Title: Revenue Procedure 2006-XX, Revocation of Election filed under I.R.C. 83(b).

Description: This revenue procedure sets forth the procedures to be followed by individuals who wish to request permission to revoke the election they made under section 83(b).

Respondents: Individuals or Households.

Estimated Total Burden Hours: 400 hours.

OMB Number: 1545-2015.

Type of Review: Extension.

Title: Tax Exempt Hospitals Compliance Check Questionnaire.

Description: A form to solicit information pertaining to the operations of tax exempt hospitals. Respondents will include hospitals claiming exemption from Federal income tax under section 501(c)(3) of the Internal Revenue Code.

Respondents: Not-for-profit institutions.

Estimated Total Burden Hours: 6,540 hours.

OMB Number: 1545-0115.

Type of Review: Extension.

Title: Miscellaneous Income.

Form: 1099-MISC.

Description: Form 1099-MISC is used by payers to report payments of $600 or more of rents, prizes and awards, medical and health care payments, non-employee compensation, and crop insurance proceeds, $10 or more of royalties, any amount of fishing boat proceeds, certain substitute payments, golden parachute payments, and an indication of direct sales of $5,000 or more.

Respondents: Business or other for profit institutions.

Estimated Total Burden Hours: 1,513 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E6-17163 Filed 10-16-06; 8:45 am]

BILLING CODE 4830-01-P